DEPARTMENT OF ENERGY

Federal Energy Regulatory Commission

[Project No. 1025-086]

Safe Harbor Water Power Corp.; Notice of Technical Conference for Safe Harbor Project

a. Date and Time of Meeting: Monday, June 8, 2015, beginning at 10:00 a.m. (EDT) and concluding at 1:00 p.m. (EDT).

b. Place: Safe Harbor Water Power Corporation, 1 Powerhouse Road, Conestoga, PA 17516-9651.

c. FERC Contact: Rebecca Martin at (202) 502-6012 or email at Rebecca.Martin@ferc.gov.

d. Purpose of Meeting: To discuss the Commission's March 16, 2015 Order approving an increase in the normal maximum water surface elevation of Lake Clarke to 227.6 feet mean sea level (msl) from April 15 to October 15. The Order also approved a temporary increase of Lake Clarke, up to elevation 228.0 feet msl, from April 15 to October 15, if the results of the Safe Harbor annual spring mudflat surveys demonstrate that the minimum area of shorebird habitat can be maintained.

e. A summary of the meeting will be prepared for the project record.

f. All local, state, and federal agencies, Indian tribes, and other interested parties are invited to participate. Please call Rebecca Martin at (202) 502-6012 or send an email to rebecca.martin@ferc.gov by May 26, 2015, to register your attendance for the meeting.

g. FERC conferences are accessible under section 508 of the Rehabilitation Act of 1973. For accessibility accommodations please send an email to accessibility@ferc.gov or call toll free (866) 208-3372 (voice) or 202-208-8659 (TTY), or send a FAX to 202-208-2106 with the required accommodations.

Dated: May 12, 2015.
Kimberly D. Bose,
Secretary.

[FR Doc. 2015-11920 Filed 5-15-15; 8:45 am]

BILLING CODE 6717-01-P